NATIONAL CREDIT UNION ADMINISTRATION

Sunshine Act Meetings

TIME AND DATE: 10:00 a.m., Thursday, March 18, 2021.

PLACE: Due to the COVID-19 Pandemic, the meeting will be open to the public via live webcast only. Visit the agency's homepage (www.ncua.gov) and access the provided webcast link.

STATUS: This meeting will be open to the public.

MATTERS TO BE CONSIDERED:

1. NCUA Rules and Regulations, Central Liquidity Facility.

2. NCUA Rules and Regulations, Asset Thresholds Pertaining to Large Credit Unions.

3. Board Briefing, NCUA Guaranteed Note and Asset Management Estates Programs.

CONTACT PERSON FOR MORE INFORMATION: Melane Conyers-Ausbrooks, Secretary of the Board, Telephone: 703-518-6304.

Melane Conyers-Ausbrooks,
Secretary of the Board.

[FR Doc. 2021-05468 Filed 3-12-21; 11:15 am]

BILLING CODE 7535-01-P